DEPARTMENT OF AGRICULTURE

Animal and Plant Health Inspection Service

7 CFR Part 354

9 CFR Part 97

[Docket No. 04-108-1]

Commuted Traveltime

AGENCY: Animal and Plant Health Inspection Service, USDA.

ACTION: Final rule.

SUMMARY: We are amending the regulations concerning overtime services provided by employees of the Agency's Plant Protection and Quarantine (PPQ) and Veterinary Services (VS) programs by adding or amending commuted traveltime allowances for travel between certain locations in Texas, New Mexico, and Mexico. Commuted traveltime allowances are the periods of time required for PPQ or VS employees to travel from their dispatch points and return there from the places where they perform Sunday, holiday, or other overtime duty. The Government charges a fee for certain overtime services provided by PPQ and VS employees and, under certain circumstances, the fee may include the cost of commuted traveltime. This action is necessary to inform the public of commuted traveltime for these locations.

DATES: Effective April 1, 2005.

FOR FURTHER INFORMATION CONTACT: For information regarding Plant Protection and Quarantine programs, contact Mr. Michael J. Caporaletti, Program Analyst, Quarantine Policy, Analysis and Support, PPQ, APHIS, 4700 River Road Unit 120, Riverdale, MD 20737-1238; (301) 734-5781. For information regarding Veterinary Services programs, contact Ms. Inez D. Hockaday, Director, Management Support Staff, VS, APHIS, 4700 River Road Unit 44, Riverdale, MD 20737-1231; (301) 734-7517.

SUPPLEMENTARY INFORMATION:

Background

The regulations in 7 CFR, chapter III, and 9 CFR, chapter I, subchapter D, require inspection, laboratory testing, certification, or quarantine of certain plants, plant products, animals, animal products, or other commodities intended for importation into, or exportation from, the United States.

When these services must be provided by an employee of the Animal and Plant Health Inspection Service (APHIS) on a Sunday or holiday, or at any other time outside the employee's regular duty hours, the Government charges a fee for the services in accordance with 7 CFR part 354 (for services provided by an employee of APHIS' Plant Protection and Quarantine [PPQ] program) and 9 CFR part 97 (for services provided by an employee of APHIS' Veterinary Services [VS] program). Under circumstances described in 7 CFR 354.1(a)(2) and 9 CFR 97.1(a), this fee may include the cost of commuted traveltime. The regulations in 7 CFR 354.2 and 9 CFR 97.2 contain administrative instructions prescribing commuted traveltime allowances, which reflect, as nearly as practicable, the periods of time required for PPQ and VS employees to travel from their dispatch points and return there from the places where they perform Sunday, holiday, or other overtime duty.

We are amending 7 CFR 354.2 and 9 CFR 97.2 by adding commuted traveltime allowances for travel between certain locations in Texas, New Mexico, and Mexico. The new allowances are set forth in the rule portion of this document. In 9 CFR 97.2, we are also increasing the commuted traveltime allowance from 1 to 2 hours for Dallas-Fort Worth International Airport served from Fort Worth or Dallas, TX, within the metro area, and removing the commuted traveltime allowance for Dallas-Fort Worth International Airport served from Fort Worth or Dallas outside the metro area. This action is necessary to inform the public of the commuted traveltime between the dispatch and service locations.

We are also amending the table in 7 CFR 354.2 to change the entry for “Dallas-Fort Worth Regional Airport” to “Dallas-Fort Worth International Airport.” The corresponding entry in 9 CFR 97.2 has already been updated to reflect the change in the airport's name.

Effective Date

The commuted traveltime allowances appropriate for employees performing services at ports of entry, and the features of the reimbursement plan for recovering the cost of furnishing port of entry services, depend upon facts within the knowledge of the Department of Agriculture. It does not appear that public participation in this rulemaking would make additional relevant information available to the Department.

Accordingly, pursuant to the administrative procedure provisions in 5 U.S.C. 553, we find upon good cause that prior notice and other public procedure with respect to this rule are impracticable and unnecessary; we also find good cause for making this rule effective less than 30 days after publication of this document in the Federal Register.

Executive Order 12866 and Regulatory Flexibility Act

This rule has been reviewed under Executive Order 12866. For this action, the Office of Management and Budget has waived its review under Executive Order 12866.

The number of requests for overtime services of a PPQ or VS employee at the locations affected by this rule represents an insignificant portion of the total number of requests for these services in the United States.

Under these circumstances, the Administrator of the Animal and Plant Health Inspection Service has determined that this action will not have a significant economic impact on a substantial number of small entities.

Executive Order 12988

This final rule has been reviewed under Executive Order 12988, Civil Justice Reform. This rule is intended to have preemptive effect with respect to any State or local laws, regulations, or policies that conflict with its provisions or that would otherwise impede its full implementation. This rule is not intended to have retroactive effect. There are no administrative procedures that must be exhausted prior to any judicial challenge to the provisions of this rule or the application of its provisions.

Paperwork Reduction Act

This final rule contains no new information collection or recordkeeping requirements under the Paperwork Reduction Act of 1995 (44 U.S.C. 3501 et seq.).

List of Subjects

7 CFR Part 354

Exports, Government employees, Imports, Plant diseases and pests, Quarantine, Reporting and recordkeeping requirements, Travel and transportation expenses.

9 CFR Part 97

Exports, Government employees, Imports, Livestock, Poultry and poultry products, Travel and transportation expenses.

Accordingly, we are amending 7 CFR part 354 and 9 CFR part 97 as follows:

Title 7—(Amended)

PART 354—OVERTIME SERVICES RELATING TO IMPORTS AND EXPORTS; AND USER FEES

1. The authority citation for part 354 continues to read as follows:

Authority: 7 U.S.C. 7701-7772 and 8301-8317; 21 U.S.C. 136 and 136a; 49 U.S.C. 80503; 7 CFR 2.22, 2.80, and 371.3.

2. In § 354.2, the table is amended as follows:

a. Under Mexico, by adding, in alphabetical order, the entries set forth below.

b. Under Texas, by removing the word “Regional” each time it appears and adding the word “International” in its place, and by adding, in alphabetical order, the entries set forth below.

354.2 Administrative instructions prescribing commuted traveltime.

* * * * *

Commuted Traveltime Allowances
[In hours]
Location covered | Served from— | Metropolitan area: Within | Metropolitan area: Outside
* * * * * * *
Mexico:
* * * * * * *
Ciudad Acuna | Eagle Pass, TX |  | 3
Ciudad Acuna | Laredo, TX |  | 6
Ciudad Acuna | Pleasanton, TX |  | 6
* * * * * * *
Nuevo Laredo | Del Rio, TX |  | 4
Nuevo Laredo | Eagle Pass, TX |  | 5
* * * * * * *
Nuevo Laredo | Pharr, TX |  | 6
Nuevo Laredo | Pleasanton, TX |  | 5
* * * * * * *
Ojinaga | El Paso, TX |  | 6
* * * * * * *
Piedras Negras | Laredo, TX |  | 5
Piedras Negras | Pharr, TX |  | 10
Piedras Niegros | Pleasanton, TX |  | 5
Reynosa Eagle | Pass, TX |  | 12
* * * * * * *
Reynosa | Laredo, TX |  | 5
Reynosa | Mission, TX |  | 1
Reynosa | Pharr, TX |  | 1
San Jeronimo | Presidio, TX |  | 6
San Jeronimo | Santa Theresa, NM |  | 1
* * * * * * *
Texas:
* * * * * * *
Dallas-Fort Worth International Airport | Decatur |  | 2
* * * * * * *
Houston (including Houston Intercontinental Airport) | Bellville |  | 4
Houston (including Houston Intercontinental Airport) | Bryan |  | 4
Houston (including Houston Intercontinental Airport) | Georgetown |  | 8
Houston (including Houston Intercontinental Airport) | Pleasanton |  | 8
* * * * * * *

Title 9—(Amended)

PART 97—OVERTIME SERVICES RELATING TO IMPORTS AND EXPORTS

3. The authority citation for part 97 continues to read as follows:

Authority: 7 U.S.C. 8301-8317; 49 U.S.C. 80503; 7 CFR 2.22, 280, and 371.4.

4. In § 97.2, the table is amended as follows:

a. Under Mexico, by revising the entries for Ciudad Acuna, Nuevo Laredo, Ojinaga, Piedras Negras, Reynosa (Pharr International Bridge), and San Jeronimo to read as set forth below.

b. Under Texas, by revising the entries for Dallas-Forth Worth International Airport and Houston (including Houston Intercontinental Airport) to read as set forth below.

§ 97.2 Administrative instructions prescribing commuted traveltime.

* * * * *

Communted Traveltime Allowances
[In hours]
Location covered | Served from— | Metropolitan area: Within | Metropolitan area: Outside
* * * * * * *
Mexico:
Ciudad Acuna | Del Rio, TX |  | 1½
Do | Eagle Pass, TX |  | 3
Do | Laredo, TX |  | 6
Do | Pleasanton, TX |  | 6
* * * * * * *
Nuevo Laredo | Del Rio, TX |  | 4
Do | Eagle Pass, TX |  | 5
Do | Laredo, TX |  | 1½
Do | Pharr, TX |  | 6
Do | Pleasanton, TX |  | 5
Ojinaga | El Paso, TX |  | 6
Do | Presidio, TX |  | 1
Piedras Negras | Eagle Pass, TX |  | 1
Do | Laredo, TX |  | 5
Do | Pharr, TX |  | 10
Do | Pleasanton, TX |  | 5
Reynosa (Pharr International Bridge) | Eagle Pass, TX |  | 12
Do | Hidalgo, TX |  | 1
Do | Laredo, TX |  | 5
Do | Mission, TX |  | 1
Do | Pharr, TX |  | 1
San Jeronimo | El Paso, TX |  | 2
Do | Presidio, TX |  | 6
Do | Santa Theresa, NM |  | 1
* * * * * * *
Texas:
Dallas-Forth Worth International Airport | Decatur |  | 2
Do | Ft. Worth or Dallas |  | 2
* * * * * * *
Houston (including Houston Intercontinental Airport) |  |  | 2
Do | Bellville, TX |  | 4
Do | Bryan, TX |  | 4
Do | Georgetown, TX |  | 8
Do | Pleasanton, TX |  | 8
* * * * * * *

Done in Washington, DC, this 28th day of March, 2005.
Elizabeth E. Gaston,
Acting Administrator, Animal and Plant Health Inspection Service.

[FR Doc. 05-6458 Filed 3-31-05; 8:45 am]

BILLING CODE 3410-34-P